DEPARTMENT OF COMMERCE

National Oceanic and Atmospheric Administration

50 CFR Part 622

[I.D. 040501C]

Fisheries of the Caribbean, Gulf of Mexico, and South Atlantic; Reef Fish Fishery of the Gulf of Mexico; Red Snapper

AGENCY: National Marine Fisheries Service (NMFS), National Oceanic and Atmospheric Administration (NOAA), Commerce.

ACTION: Notice of receipt of petition for emergency rulemaking and request for comments.

SUMMARY: NOAA announces receipt of a petition for emergency rulemaking or fishery management plan action under the Magnuson-Stevens Fishery Conservation and Management Act (Magnuson-Steven Act) and the Administrative Procedure Act. The Texas Shrimp Association (TSA) has petitioned the U.S. Department of Commerce to promulgate an emergency rule to reduce the 2001 total allowable catch (TAC) in the directed commercial and recreational fisheries for red snapper in the Gulf of Mexico from 9.12 million lb (4.14 million kg) to not more than 3 million lb (1.36 million kg). Also, the TSA petition requests that the emergency action shorten the recreational fishing season as part of the TAC reduction effort.

DATES: Comments will be accepted through May 21, 2001.

ADDRESSES: Copies of the petition are available, and written comments on the need for such a regulation, its objectives, alternative approaches, and any other comments may be addressed to Phil Steele, Southeast Regional Office, NMFS, 9721 Executive Center Drive N., St. Petersburg, FL 33702; telephone 727-570-5305. Comments may also be sent via fax to 727-570-5583. Comments will not be accepted if submitted via e-mail or Internet.

FOR FURTHER INFORMATION CONTACT: Phil Steele, telephone 727-570-5305, fax 727-570-5583, e-mail Phil.steele@noaa.gov.

SUPPLEMENTARY INFORMATION: The petition filed by TSA maintains that overfishing has been occurring in the Gulf of Mexico red snapper fishery and will occur again in 2001, thereby necessitating emergency rulemaking to reduce the 2001 TAC for the directed fisheries. Included in the requested emergency action for TAC reduction is a request to shorten the recreational fishing season (currently April 21-October 31, 2001).

The TSA petition states that the following are causes of previous and continuing overfishing: (1) TSA asserts that the current definition of “optimum yield” (OY) in the Fishery Management Plan for the Reef Fish Resources of the Gulf of Mexico does not conform to the more rigorous definition of OY required by the Sustainable Fisheries Act of 1996, which amended the Magnuson-Stevens Act; (2) TSA asserts that NMFS’ scientific studies indicate that bycatch reduction devices required in shrimp trawls in the exclusive economic zone of the Gulf of Mexico west of Cape San Blas, Florida, have reduced juvenile red snapper mortality by 40 percent or less instead of the 50 to 60 percent reduction necessary as a basis for the present 9.12-million-lb (4.14-million kg) TAC. Further, TSA asserts that NMFS and the Gulf of Mexico Fishery Management Council (Council) have greatly exaggerated the importance (positive impact) of bycatch reduction for rebuilding the red snapper stock; (3) TSA asserts that recent scientific information presented to the Council's Scientific Advisory Committee indicates that the overfished condition of the red snapper fishery is a result of excessive fishing pressure by the directed fisheries, in particular the recreational sector of the fishery, and not because of bycatch mortality associated with shrimp harvest; (4) TSA states that the recreational sector of the directed fishery continues to exceed its annual quota under the present season opening and closing dates; (5) TSA states that NMFS is significantly underestimating fishing effort in the recreational sector, which allows that sector to harvest red snapper in excess of its share of the TAC; and (6) TSA asserts that NMFS has failed to make a reduction in the recreational sector's share of the TAC to account for these excessive harvests.

NMFS will consider public comments received in determining whether or not to proceed with the development of the emergency regulations requested by TSA. Upon determining whether or not to initiate the requested rulemaking, the Assistant Administrator for Fisheries, NOAA, will publish a notice of the agency's final disposition of the TSA petition request in the Federal Register.

Dated: April 13, 2001.
Bruce C. Morehead,
Acting Director, Office of Sustainable Fisheries, National Marine Fisheries Service.

[FR Doc. 01-9733 Filed 4-18-01; 8:45 am]

BILLING CODE 3510-22-S